DEPARTMENT OF THE INTERIOR

National Park Service

[NPS-WASO-NRNHL-22791; PPWOCRADI0, PCU00RP14.R50000]

National Register of Historic Places; Notification of Pending Nominations and Related Actions

AGENCY: National Park Service, Interior.

ACTION: Notice.

SUMMARY: The National Park Service is soliciting comments on the significance of properties nominated before January 21, 2017, for listing or related actions in the National Register of Historic Places.

DATES: Comments should be submitted by March 14, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before January 21, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Catalina Foothills Estates Job 265 House, (Single Family Residential Architecture of Josias Joesler and John and Helen Murphey MPS), 5276 N. Camino Real, Tucson, MP100000705

ARKANSAS

Pulaski County

Cumberland Towers, 311 E. 8th St., Little Rock, SG100000706

Parris, Fred W., Towers, 1800 S. Broadway St., Little Rock, SG100000707

Powell, Jesse, Towers, 1010 Wolfe St., Little Rock, SG100000708

FLORIDA

Alachua County

Devil's Millhopper, Address Restricted, Gainesville vicinity, SG100000709

Hendry County, First Clewiston Post Office, 111-113 Bond St., Clewiston, SG100000710

Pinellas County

Rose Hill Cemetery, 0 Jasmine Ave., Tarpon Springs, SG100000711

INDIANA

Adams County

Grand Rapids and Indiana Railroad Depot, 111 N. 7th St., Decatur, SG100000712

Fayette County

Connersville Downtown Historic District, Roughly bounded by Eastern & Grand Aves., E. & W. 4th & 9th Sts., Connersvile, SG100000713

Huntington County

Memorial Park, 1200 W. Park Dr., Huntington, SG100000714

Marshall County

Bremen Commercial Historic District, Between Jackson, Washington, North & South Sts., Bremen, SG100000715

Bremen Residential Historic District, Between Bowen, Montgomery, South & Bike Sts., Bremen, SG100000716

Wayne County

Gaar, Oliver P. and Mary Alice, House, 1307 E. Main St., Richmond, SG100000717

IOWA

Scott County

Gordon—Van Tine Company Historic District, 736 Federal & 737 Charlotte Sts., Davenport, SG100000718

MASSACHUSETTS

Berkshire County

Cheshire Town Hall Complex, 80-84 Church & 23 Depot Sts., Cheshire, SG100000719

Franklin County

East Charlemont District School, 1811 MA 2, Charlemont, SG100000721

Middlesex County

Winslow School and Littlefield Library, 250 & 252 Middlesex Rd., Tyngsborough, SG100000722

OREGON

Multnomah County

Harris, Dr. Homer H., House, 4116 SW. Tualatin Ave., Portland, SG100000725

A request for removal has been made for the following resource(s):

MICHIGAN

Kalamazoo County

East Hall, Oakland Dr., Kalamazoo, OT78001501

Western State Normal School Historic District (Kalamazoo MRA), Roughly bounded by Stadium Dr., Oliver St., and Davis St., Kalamazoo, OT90001230

An additional documentation has been received for the following resource(s):

ARIZONA

Cochise County

Bisbee Residential Historic District, 25 Clawson Ave., Bisbee, AD10000233

MASSACHUSETTS

Dukes County

Gay Head Light (Lighthouses of Massachusetts TR), 15 Aquinnah Cir., Aquinnah, AD87001464

Authority: 60.13 of 36 CFR part 60.

Dated: January 26, 2017.
Christopher Hetzel,
Acting Chief, National Register of Historic Places/National Historic Landmarks Program.

[FR Doc. 2017-03726 Filed 2-24-17; 8:45 am]

BILLING CODE 4312-52-P